DEPARTMENT OF DEFENSE

Department of the Air Force

[Docket ID: USAF-2014-0031]

Privacy Act of 1974; System of Records

AGENCY: Department of the Air Force, DoD.

ACTION: Notice to alter a System of Records.

SUMMARY: The Department of the Air Force proposes to alter a system of records notice, F032 AFCES A, entitled “Civil Engineer System-Fire Department Records” in its existing inventory of records systems subject to the Privacy Act of 1974, as amended. This system will be used to assist in protecting installation resources, equipment, and personnel that require emergency services. Operate emergency dispatch centers to support fire emergency operations. In addition, it will track fire prevention and protection, firefighting, rescue, and Hazardous Materials (HazMat) response and after action reports.

DATES: Comments will be accepted on or before December 19, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571)256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Office Web site at http://dpclo.defense.gov/.

The proposed systems reports, as required by 5 U.S.C. 552a(r) of the Privacy Act, as amended, were submitted on November 12, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: November 14, 2014.
Aaron Siegel,
Alternate OSD Federal Register Liaison Officer, Department of Defense.

F032 AFCES A

System Name:

Civil Engineer System-Fire Department Records (December 4, 2008, 73 FR 73924).

Changes:

* * * * *

System identifier:

Delete entry and replace with “F032 AF CE H”.

System name:

Delete entry and replace with “Automated Civil Engineer System—Fire Department Records.”

System location:

Delete entry and replace with “Defense Information Systems Agency (DISA), Systems Management Center, Montgomery, 401 East Moore Drive, Building 857, Gunter AFB, AL 36114-3001.”

Categories of individuals covered by the system:

Delete entry and replace with “Any individual who places a call to the Air Force installation emergency 911 dispatcher and/or fire department for emergency assistance; Air Force fire department civilian employees.”

Categories of records in the system:

Delete entry and replace with “Callers' name and phone number from which they are calling; and Air Force fire department employee's name, grade/rank, DoD Identification Number DoD ID Number, home/mobile/office telephone number, home address, duty title, and duty station.”

Authority for maintenance of the system:

Delete entry and replace with “10 U.S.C. 8013, Secretary of the Air Force; delegation by; 10 U.S.C. 9832, Property accountability: Regulations; 15 U.S.C. 2227, Fire Safety Systems in Federal Assisted Buildings: Regulations; Pre-fire Plans; 15 U.S.C. 2229, Firefighter assistance.”

Purpose(s):

Delete entry and replace with “To protect installation resources, equipment, and personnel that require emergency services. Operate emergency dispatch centers to support fire emergency operations. In addition, it will track fire prevention and protection, firefighting, rescue, and Hazardous Materials (HazMat) response and after action reports.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the Air Force's compilation of record system notices may apply to this system.”

* * * * *

Retrievability:

Delete entry and replace with “Individual's name and duty station.”

Safeguards:

Delete entry and replace with “Steps have been taken to limit the access to the Privacy data to only those users with the appropriate roles. Access to records is limited to persons responsible for servicing the record in performance of their official duties and who are properly screened and cleared for need-to-know. Access to the application is restricted by Department of Defense (DoD) Common Access Card (CAC).”

* * * * *

System Manager(s) and address:

Delete entry and replace with “Automated Civil Engineer System/Interim Work Management System Program Manager, Headquarters (HQ) A7CRT, 139 Barnes Drive, Suite 1, Tyndall AFB, FL 32403-5319.”

Notification procedure:

Delete entry and replace with “Individuals seeking to determine whether information about them is contained in this system should address written inquiries to the Civil Engineer System/Interim Work Management System Program Manager, Headquarters (HQ) A7CRT, 139 Barnes Drive, Suite 1, Tyndall AFB, FL 32403-5319.

For verification purposes, individual should provide their full name, and/or DoD ID Number, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)'.”

Record access procedures:

Delete entry and replace with “Individuals seeking access to records about themselves contained in this system should address written inquiries to the Civil Engineer System/Interim Work Management System Program Manager, Headquarters (HQ) A7CRT, 139 Barnes Drive, Suite 1, Tyndall AFB, FL 32403-5319.

For verification purposes, individual should provide their full name, and/or DoD ID Number, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)'.”

* * * * *

[FR Doc. 2014-27395 Filed 11-18-14; 8:45 am]

BILLING CODE 5001-06-P